DEPARTMENT OF DEFENSE

Office of the Secretary

Proposed Collection; Comment Request

AGENCY: Defense Technical Information Center-DTIC, DoD.

ACTION: Notice.

The Department of Defense has submitted to OMB for clearance, the following proposal for collection of information under the provisions of the Paperwork Reduction Act (44 S.C. Chapter 35). In compliance with section 3506(c)(2)(A) of the Paperwork Reduction Act of 1995, the Defense Technical Information Center announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 26, 2004.

ADDRESSES: Written comments and recommendations on the proposed information collection should be sent to Defense Technical Information Center (DTIC), Marketing and Registration Division, 8725 John J. Kingman Road, Suite 0944, ATTN: Ms. Elaine Stober, Ft. Belvoir, VA 22060-6218.

FOR FURTHER INFORMATION CONTACT: To request more information on this proposed information collection or to obtain a copy of the proposal and associated collection instruments, please write to the above address, or call DTIC, Marketing and Registration Division, at (703) 767-8207.

Title; Associated Form; and OMB Number: Customer Satisfaction Survey—Generic Clearance; OMB Number 0704-0403.

Needs and Uses: The information collection requirement is necessary to assess the level of service the Defense Technical Information Center (DTIC) provides to its current customers. The surveys will provide information on the level of overall customer satisfaction, and on customer satisfaction with several attributes of service that impact the level of overall satisfaction. These customer satisfaction surveys are required to implement Executive Order 12862, “Setting Customer Service Standards.” Respondents are DTIC registered users who are components of the Department of Defense, military services, other Federal Government Agencies, U.S. Government contractors, university involved in Federally funded research, and participants. The information obtained by these surveys will be used to assist agency senior management in determining agency business policies and processes that should be selected for examination, modification, and reengineering from the customer's perspective. These surveys will also provide statistical and demographic basis for the design of follow-on surveys. Future surveys will be used to assist monitoring of changes in the level of customer satisfaction over time.

Affected Public: Business or other for profit; Not-for-profit institutions.

Annual Burden Hours: 132.

Number of Respondents: 790.

Responses Per Respondent: 1.

Average Burden Per Response: 10 minutes.

Frequency: On occasion.

SUPPLEMENTARY INFORMATION:

Summary of Information Collection

The purpose of these surveys is to assess the level of service the Defense Technical Information Center (DTIC) provides to its current customers. The proposed collection of information will be conducted annually. Less frequent collection or no collection of information would result in the inability to effectively measure customer satisfaction and improve products and services based on feedback. The surveys will provide information on the level of overall customer satisfaction, and on customer satisfaction with several attributes of service which impact the level of overall satisfaction. The objectives of the survey are to help DTIC (1) gauge the level of satisfaction among both its general and Top 200 users, and (2) identify possible areas for improving our products and services. The surveys are designed to assist in evaluating the following knowledge objectives:

• To improve customer retention;

• To determine the perceived quality of products, service and customer care;

• To indicate trends in products, services and customer care;

• To benchmark our customer satisfaction results with other Federal government agencies.

Dated: February 18, 2004.
L.M. Bynum,
Alternate OSD Federal Register Liaison Officer, Department of Defense.

[FR Doc. 04-4039 Filed 2-24-04; 8:45 am]

BILLING CODE 5001-06-M